FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011405-016.

Title: Ocean Carrier Working Group Agreement.

Parties: The Latin America Agreement, the Israel Trade Conference, the Trans-Atlantic Conference Agreement, the Transpacific Stabilization Agreement, the Untied States Australasia Agreement, the United States/South Europe Conference, the Westbound Transpacific Stabilization Agreement, the Middle East Indian Subcontinent Discussion Agreement, A.P. Moller Maersk Sealand, Contship Containerlines, Evergreen Marine Corporation, King Ocean Service de Venezuela, Star Shipping, Tropical Shipping & Construction Company, Wallenius Wilhelmsen Lines, Zim Israel Navigation, and Hapag-Lloyd.

Synopsis: The amendment deletes the Mediterranean-North Pacific Coast Freight Conference as a party and updates the memberships of the Westbound Transpacific Stabilization Agreement and the Middle East Indian Subcontinent Discussion Agreement.

Agreement No.: 011838.

Title: MOL/WLS Space Charter Agreement.

Parties: Mitsui O.S.K. Lines, Ltd., World Logistics Service (U.S.A.), Inc.

Synopsis: Under the proposed agreement, Mitsui will charter space to World Logistics in the trade from Veracruz, Mexico to ports on the U.S. Atlantic and Gulf Coasts.

Dated: January 17, 2003.
By Order of the Federal Maritime Commission.
Bryant L. VanBrakle,
Secretary.

[FR Doc. 03-1489 Filed 1-22-03; 8:45 am]

BILLING CODE 6730-01-P